ENVIRONMENTAL PROTECTION AGENCY

[FRL-7962-7]

Science Advisory Board Staff Office; Clean Air Scientific Advisory Committee (CASAC); Notification of Advisory Meeting of the CASAC Ambient Air Monitoring and Methods (AAMM) Subcommittee

AGENCY: Environmental Protection Agency (EPA).

ACTION: Notice.

SUMMARY: The Environmental Protection Agency Science Advisory Board (SAB) Staff Office announces a public meeting of the Clean Air Scientific Advisory Committee's (CASAC) Ambient Air Monitoring and Methods (AAMM) Subcommittee to conduct a peer review on the Federal Reference Method (FRM) for thoracic coarse particulate matter (PM10-2.5) and a consultation on various PM monitoring-related issues.

DATES: The meeting will be held Wednesday, September 21, 2005, from 9 a.m. to 5:30 p.m. (eastern time), and Thursday, September 22, 2005, from 8:30 a.m. to 3 p.m. (eastern time).

ADDRESSES: The meeting will take place at the Marriott Durham Civic Center Hotel, 210 Foster Street, Durham, NC 27701.

FOR FURTHER INFORMATION CONTACT: Any member of the public who would like to submit written or brief oral comments (5 minutes or less), or wants further information concerning this meeting, should contact Mr. Fred Butterfield, Designated Federal Officer (DFO), EPA Science Advisory Board (1400F), U.S. Environmental Protection Agency, 1200 Pennsylvania Avenue, NW., Washington, DC 20460; via telephone/voice mail: (202) 343-9994; fax: (202) 233-0643; or e-mail at: butterfield.fred@epa.gov. General information concerning the CASAC or the EPA Science Advisory Board can be found on the EPA Web site at: http://www.epa.gov/sab.

SUPPLEMENTARY INFORMATION: CASAC and the AAMM Subcommittee: The CASAC, which comprises seven members appointed by the EPA Administrator, was established under section 109(d)(2) of the Clean Air Act (CAA or Act) (42 U.S.C. 7409) as an independent scientific advisory committee, in part to provide advice, information and recommendations on the scientific and technical aspects of issues related to air quality criteria and national ambient air quality standards (NAAQS) under sections 108 and 109 of the Act. The CASAC, which is administratively located under the SAB Staff Office, is a Federal advisory committee chartered under the Federal Advisory Committee Act (FACA), as amended, 5 U.S.C., App.

The SAB Staff Office established the CASAC AAMM Subcommittee in early 2004 as a standing subcommittee to provide the EPA Administrator, through the CASAC, with advice and recommendations, as necessary, on topical areas related to ambient air monitoring, methods and networks. The Subcommittee complies with the provisions of FACA and all appropriate SAB Staff Office procedural policies.

Background: Under section 108 of the CAA, the Agency is required to establish NAAQS for each pollutant for which EPA has issued criteria, including particulate matter (PM). Section 109(d) of the Act subsequently requires periodic review and, if appropriate, revision of existing air quality criteria to reflect advances in scientific knowledge on the effects of the pollutant on public health and welfare. The Agency is also to revise the NAAQS, if appropriate, based on the revised criteria.

EPA is currently reviewing the NAAQS for PM. As part of this review, the Agency is considering potential NAAQS for thoracic coarse particulate matter (PM10-2.5). Further information on EPA's ongoing PM NAAQS review is available at the following URL: http://www.epa.gov/ttn/naaqs/standards/pm/s_pm_index.html.

In conjunction with the review of the PM NAAQS, EPA is evaluating potential monitoring methods for measurement of PM10-2.5. The Agency's Office of Air Quality Planning and Standards (OAQPS), within EPA's Office of Air and Radiation (OAR), has requested that the CASAC conduct a peer review of the Federal Reference Method (FRM) for PM10-2.5 to provide independent scientific advice on the appropriateness of this method for being the basis of comparison in approving coarse-particle continuous monitors. The FRM for PM10-2.5 will establish the basis for approval of continuous-monitoring methods in a performance-based measurement system process. In addition, OAQPS has asked the CASAC to conduct a consultation to the Agency on: Fine particle (PM2.5) FRM optimization and equivalency criteria for continuous monitors; and PM10-2.5 methods evaluation, network data quality objectives (DQOs), and equivalency criteria for continuous monitors. The CASAC AAMM Subcommittee provided advice and recommendations for this ongoing work at a July 22, 2004 consultative meeting on PM10-2.5 methods and DQOs.

Any questions concerning EPA's ambient air monitoring efforts should be directed to Mr. Tim Hanley, OAQPS, at phone: (919) 541-4417; or e-mail: hanley.tim@epa.gov. Questions concerning the Agency's FRM development efforts and PM10-2.5 measurement methods evaluation should be directed to Dr. Robert Vanderpool of EPA's National Exposure Research Laboratory, within the Office of Research and Development, at phone: (919) 541-7877; or e-mail: vanderpool.robert@epa.gov.

Availability of Meeting Materials: Prior to the meeting of the CASAC AAMM Subcommittee, OAQPS will post written meeting materials on the “CASAC File Area” page of the Agency's Ambient Monitoring Technology Information Center (AMTIC) Web site at the following URL: http://www.epa.gov/ttn/amtic/casacinf.html. Furthermore, the SAB Staff Office will post a copy of the final agenda and charge to the Subcommittee for this advisory meeting on the SAB Web site at URL: http://www.epa.gov/sab (under “Meeting Agendas”), and the CASAC AAMM Subcommittee page at: http://www.epa.gov/sab/panels/casac_aamm_subcom.html, respectively, in advance of the Subcommittee's meeting.

Procedures for Providing Public Comment: The SAB Staff Office accepts written public comments of any length, and will accommodate oral public comments whenever possible. The SAB Staff Office expects that public will not repeat previously-submitted oral or written statements. Oral Comments: Requests to provide oral comments must be in writing (e-mail, fax or mail) and received by Mr. Butterfield no later than noon September 14, 2005 to reserve time on the meeting September 21, 2005 meeting agenda. Opportunities for oral comments will be limited to no more than five minutes per speaker. Written Comments: Written comments should be received in the SAB Staff Office by September 16, 2005 so that the comments may be made available to the members of the CASAC AAMM Subcommittee for their consideration. Comments should be supplied to Mr. Butterfield at the contact information provided above, in the following formats: one hard copy with original signature, and one electronic copy via e-mail (acceptable file format: Adobe Acrobat PDF, WordPerfect, Word, or Rich Text files (in IBM-PC/Windows 98/2000/XP format)). Those providing written comments and who attend the meeting in person are also asked to bring 75 copies of their comments for public distribution.

Meeting: Individuals requiring special accommodation at this meeting, including wheelchair access to the conference room, should contact Mr. Butterfield at the phone number or an e-mail address noted above at least at least five business days prior to the meeting so that appropriate arrangements can be made.

Dated: August 22, 2005.
Anthony Maciorowski,
Acting Director, EPA Science Advisory Board Staff Office.

[FR Doc. 05-17197 Filed 8-29-05; 8:45 am]

BILLING CODE 6560-50-P